DEPARTMENT OF COMMERCE

National Oceanic and Atmospheric Administration

RIN 0648-BB69

New England Fishery Management Council (Council); Notice of Intent (NOI) To Prepare an Environmental Impact Statement (EIS); Reopening of Comment Period

AGENCY: National Marine Fisheries Service (NMFS), National Oceanic and Atmospheric Administration (NOAA), Commerce.

ACTION: Reopening of comment period.

SUMMARY: This action reopens the comment period of a notice published on December 21, 2011. The original comment period on the notice closed at 5 p.m., E.S.T., March 1, 2012; however, the Council's Executive Committee voted to reopen the comment period an additional 60 days. This notice reopens the comment period to 5 p.m., E.S.T., April 30, 2012.

DATES: Written comments must be received on or before 5 p.m., E.S.T., on April 30, 2012.

FOR FURTHER INFORMATION CONTACT: Travis Ford, Fishery Management Specialist, 978-281-9233.

SUPPLEMENTARY INFORMATION: NMFS published a NOI to prepare an EIS and announced public scoping meetings for the Council's Amendment 18 to the Northeast Multispeces Fishery Management Plan on December 21, 2011 (76 FR 79153). The comment period for the subject document closed on March 1, 2012. The Council's Executive Committee voted to reopen the comment period an additional 60 days. The closing date for comments has been extended to 5 p.m., E.S.T., April 30, 2012.

Authority: 16 U.S.C. 1801 et seq.

Dated: March 6, 2012.
Emily H. Menashes,
Acting Director, Office of Sustainable Fisheries, National Marine Fisheries Service.

[FR Doc. 2012-5919 Filed 3-9-12; 8:45 am]

BILLING CODE 3510-22-P